DEPARTMENT OF THE INTERIOR

National Park Service

[NPS-WASO-NAGPRA-13404; PPWOCRADN0-PCU00RP14.R50000]

Notice of Inventory Completion: Washington State Parks and Recreation Commission, Olympia, WA

AGENCY: National Park Service, Interior.

ACTION: Notice.

SUMMARY: The Washington State Parks and Recreation Commission has completed an inventory of human remains in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Washington State Parks and Recreation Commission. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Washington State Parks and Recreation Commission at the address in this notice by August 23, 2013.

ADDRESSES: Alicia Woods, Washington State Parks and Recreation Commission, PO Box 42650, Olympia, WA 98504-2650, telephone (360) 902-0939, email Alicia.Woods@parks.wa.gov.

SUPPLEMENTARY INFORMATION: Notice is here given in accordance with the Native American Graves Protection and Repatriation Act (NAGPRA), 25 U.S.C. 3003, of the completion of an inventory of human remains in the control of the Washington State Parks and Recreation Commission, Olympia, WA, and in the physical custody of the Burke Museum of Natural History and Culture, University of Washington (Burke Museum), Seattle, WA. The human remains were removed from Sucia Island State Park, San Juan County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Washington State Parks and Recreation Commission and the Burke Museum professional staff in consultation with representatives of the Lummi Tribe of the Lummi Reservation; Samish Indian Nation (previously listed as the Samish Indian Tribe, Washington); and the Swinomish Indians of the Swinomish Reservation of Washington.

History and Description of the Remains

In August 1960, human remains representing, at minimum, one individual were removed by Robert Kidd, a student working under the supervision of R. E. Greengo, of the Department of Anthropology, University of Washington, during the excavation of site 45-SJ-105 on Sucia Island. Kidd does not indicate the discovery of a burial site or human remains in his report, but Kidd specifically notes Sucia Island as “historic Lummi territory.” Staff at the Burke Museum identified the remains in unmodified level bags in the collection prior to 1996. Washington State Parks and Recreation Commission believes Kidd inadvertently and unknowingly removed these human remains from the site. No known individuals were identified. No associated funerary objects are present.

In July 1971, human remains representing, at minimum, two individuals were removed by a park visitor who inadvertently discovered a burial on Sucia Island at site 45-SJ-306. The remains were exposed by natural erosion. The San Juan County Sheriff's Department sent the remains to the Department of Anthropology, University of Idaho, Moscow, ID, for identification. Prior to 1993, this collection was released back into the custody of Washington State Parks and Recreation Commission. Anthropologists that reviewed the human remains indicated there was an extended postmortem interval and the human remains are consistent with archaeological material. No known individuals were identified. No associated funerary objects are present.

Ethnographic and archaeological evidence suggests Native American groups, specifically the Lummi people, occupied Sucia Island prior to European contact (Amos 1978; McDonald 1990; Stern 1934, Stolpe 1972, Suttles 1951, 1954, 1990). The Lummi Tribal Historic Preservation Officer confirmed Sucia Island as one among many islands in the San Juan archipelago that was occupied by the Lummi people prior to and during the early stages of European contact and settlement in the area. Washington State Parks and Recreation Commission staff believes there is sufficient evidence Sucia Island was occupied by Native Americans, specifically the Lummi people, and has determine there is a relationship of shared group identity between the Native American human remains and the Lummi Tribe of the Lummi Reservation.

Determinations Made by the Washington State Parks and Recreation Commission

Officials of the Washington State Parks and Recreation Commission have determined that:

• Pursuant to 25 U.S.C. 3001(9), the human remains described in this notice represent the physical remains of a minimum of three individuals of Native American ancestry.

• Pursuant to 25 U.S.C. 3001(2), there is a relationship of shared group identity that can be reasonably traced between the Native American human remains and the Lummi Tribe of the Lummi Reservation.

Additional Requestors and Disposition

Lineal descendants or representatives of any Indian tribe or Native Hawaiian organization not identified in this notice that wish to request transfer of control of these human remains should submit a written request with information in support of the request to Alicia Woods, Washington State Parks and Recreation Commission, PO Box 42650, Olympia, WA 98504-2650, telephone (360) 902-0939, email Alicia.Woods@parks.wa.gov. After that date, if no additional requestors have come forward, transfer of control of the human remains to Lummi Tribe of the Lummi Reservation may proceed.

The Washington State Parks and Recreation Commission is responsible for notifying the Lummi Tribe of the Lummi Reservation; Samish Indian Nation (previously listed as the Samish Indian Tribe, Washington); and the Swinomish Indians of the Swinomish Reservation of Washington that this notice has been published.

Dated: June 27, 2013.
Melanie O'Brien,
Acting Manager, National NAGPRA Program.

[FR Doc. 2013-17717 Filed 7-23-13; 8:45 am]

BILLING CODE 4312-50-P